NUCLEAR REGULATORY COMMISSION

[Docket Nos. 50-387 and 50-388]

PPL Susquehanna, LLC, Allegheny Electric Cooperative, Inc., Susquehanna Steam Electric Station, Units 1 and 2; Environmental Assessment and Finding of No Significant Impact

The U.S. Nuclear Regulatory Commission (NRC) is considering issuance of an exemption from Title 10 of the Code of Federal Regulations (10 CFR), part 50, section 50.60(a), and Appendix G, for Facility Operating License Nos. NPF-14 and NPF-22 issued to PPL Susquehanna, LLC (PPL, the licensee), for operation of the Susquehanna Steam Electric Station (SSES), Units 1 and 2 (SSES-1 and 2), located in Luzerne County, Pennsylvania. Therefore, as required by 10 CFR 51.21, the NRC is issuing this environmental assessment and finding of no significant impact.

Environmental Assessment

Identification of the Proposed Action

The proposed action would allow PPL to use American Society of Mechanical Engineers (ASME) Code Case N-640 as the basis for establishing the fracture toughness values used in pressure-temperature (P-T) limit calculations. Section 50.60(a) of 10 CFR part 50 requires nuclear power reactors to meet the fracture toughness requirements set forth in 10 CFR part 50, Appendix G. Appendix G of 10 CFR part 50 requires that P-T limits be established for reactor pressure vessels (RPVs) during normal operating and hydrostatic or leak rate testing conditions. Specifically, 10 CFR part 50, Appendix G, states, “The appropriate requirements on both the pressure-temperature limits and the minimum permissible temperature must be met for all conditions.” Appendix G of 10 CFR part 50 specifies that the requirements for these limits are the ASME Boiler and Pressure Vessel Code (ASME Code), Section XI, Appendix G, limits. Code Case N-640 permits application of the lower bound static initiation fracture toughness value equation (KIc equation) as the basis for establishing the P-T curves in lieu of using the lower bound crack arrest fracture toughness value equation (i.e., the KIa equation, the method invoked by Appendix G to Section XI of the ASME Code) as the basis for the curves.

The proposed action is in accordance with the licensee's application for exemption dated July 17, 2001, as supplemented by letters dated July 26, and October 15, 2001.

The Need for the Proposed Action

ASME Code Case N-640 is needed to revise the method used to determine the P-T limits, since continued use of the present curves unnecessarily restricts the reactor coolant system (RCS) P-T operating window. The RCS P-T operating window is defined by the RPV P-T operating and test limit curves developed in accordance with the ASME Code, Section XI, Appendix G. Continued operation of SSES-1 and 2, with these P-T curves without the relief provided by ASME Code Case N-640 would unnecessarily require the licensee to maintain the RCS temperature in a limited, high-temperature (over 200 °F) operating band during the pressure test. This results in challenges to plant operators in maintaining the RCS within the narrow allowable temperature band and challenges to personnel safety due to the high ambient drywell temperatures. Implementation of the proposed P-T curves, as allowed by ASME Code Case N-640, does not significantly reduce the margin of safety and would eliminate the challenges to plant operators and personnel safety by allowing the pressure test to be conducted at a lower coolant temperature.

Environmental Impacts of the Proposed Action

The NRC has completed its evaluation of the proposed action and concludes that the exemption described above would provide an adequate margin of safety against brittle failure of the SSES-1 and 2 RPVs.

The proposed action will not significantly increase the probability or consequences of accidents, no changes are being made in the types of effluents that may be released off site, and there is no significant increase in occupational or public radiation exposure. Therefore, there are no significant radiological environmental impacts associated with the proposed action.

With regard to potential nonradiological impacts, the proposed action does not have a potential to affect any historic sites. It does not affect nonradiological plant effluents and has no other environmental impact. Therefore, there are no significant nonradiological environmental impacts associated with the proposed action.

Accordingly, the NRC concludes that there are no significant environmental impacts associated with the proposed action.

Environmental Impacts of the Alternatives to the Proposed Action

As an alternative to the proposed action, the staff considered denial of the proposed action (i.e., the “no-action” alternative). Denial of the application would result in no change in current environmental impacts. The environmental impacts of the proposed action and the alternative action are similar.

Alternative Use of Resources

The action does not involve the use of any different resource than those previously considered in the Final Environmental Statement for the Susquehanna Steam Electric Station, dated June 1981.

Agencies and Persons Consulted

On December 17, 2001, the staff consulted with the Pennsylvania State official, Mr. Michael Murphy of the Pennsylvania Department of Environmental Protection, regarding the environmental impact of the proposed action. The State official had no comments.

Finding of No Significant Impact

On the basis of the environmental assessment, the NRC concludes that the proposed action will not have a significant effect on the quality of the human environment. Accordingly, the NRC has determined not to prepare an environmental impact statement for the proposed action.

For further details with respect to the proposed action, see the licensee's letter dated July 17, 2001, as supplemented by letters dated July 26, and October 15, 2001. Documents may be examined, and/or copied for a fee, at the NRC's Public Document Room (PDR), located at One White Flint North, 11555 Rockville Pike (first floor), Rockville, Maryland. Publicly available records will be accessible electronically from the Agencywide Documents Access and Management Systems Public Library (ADAMS) component on the NRC Web site, http://www.nrc.gov (the Public Electronic Reading Room). Persons who do not have access to ADAMS or who encounter problems in accessing the documents located in ADAMS, should contact the NRC PDR Reference staff by telephone at 1-800-397-4209, or 301-415-4737, or by e-mail at pdr@nrc.gov.

Dated at Rockville, Maryland, this 30th day of January 2002.
For the Nuclear Regulatory Commission.
Joel T. Munday,
Acting Chief, Section 1, Project Directorate I, Division of Licensing Project Management, Office of Nuclear Reactor Regulation.

[FR Doc. 02-2738 Filed 2-4-02; 8:45 am]

BILLING CODE 7590-01-P